DEPARTMENT OF THE INTERIOR

National Park Service

Notice of Inventory Completion: U.S. Department of the Interior, National Park Service, Fort Vancouver National Historic Site, Vancouver, WA

AGENCY: National Park Service, Interior.

ACTION: Notice.

Notice is here given in accordance with the Native American Graves Protection and Repatriation Act (NAGPRA), 25 U.S.C. 3003, of the completion of an inventory of human remains in the possession and control of the U.S. Department of the Interior, National Park Service, Fort Vancouver National Historic Site, Vancouver, WA. The human remains were removed from Clark County, WA.

This notice is published as part of the National Park Service's administrative responsibilities under NAGPRA, 25 U.S.C. 3003 (d)(3). The determinations in this notice are the sole responsibility of the superintendent, Fort Vancouver National Historic Site.

A detailed assessment of the human remains was made by Fort Vancouver National Historic Site professional staff in consultation with representatives of the Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Spokane Tribe of the Spokane Reservation, Washington; Stillaguamish Tribe of Washington; and three non-Federally recognized Indian groups - Clatsop-Nehalem Confederated Tribes, Snoqualmoo Tribe, and Wanapum Band.

In the 1950s, human remains representing a minimum of nine individuals were removed from the I-5 corridor in Clark County, WA. The human remains were displaced by I-5 construction and donated to Fort Vancouver National Historic Site. No known individuals were identified. No associated funerary objects are present.

In 1977, human remains representing a minimum of two individuals were removed from the village area of Fort Vancouver in Clark County, WA, during archeological excavations in preparation for planned modifications to State Route 14. No known individuals were identified. No associated funerary objects are present.

The age of the human remains is unknown and no other information is available about either of the sites from which they were removed. The available evidence is insufficient to identify an earlier group and therefore it is not possible to make a determination of cultural affiliation.

Officials of Fort Vancouver National Historic Site have determined that, pursuant to 25 U.S.C. 3001 (9-10), the human remains described above represent the physical remains of 11 individuals of Native American ancestry. Officials of Fort Vancouver National Historic Site also have determined that, pursuant to 25 U.S.C. 3001 (2), a relationship of shared group identity cannot reasonably be traced between the Native American human remains and any present-day Indian tribe.

The Native American Graves Protection and Repatriation Review Committee (Review Committee) is responsible for recommending specific actions for disposition of culturally unidentifiable human remains. In August 2008, Fort Vancouver National Historic Site requested that the Review Committee recommend disposition of the 11 culturally unidentifiable human remains to the Vancouver Inter-Tribal Consortium on behalf of the following signatories: Clatsop-Nehalem Confederated Tribes; Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Snoqualmoo Tribe; Spokane Tribe of the Spokane Reservation, Washington; Stillaguamish Tribe of Washington; and Wanapum Band. All have historical connections to present-day Vancouver, WA, and have requested the human remains through the Vancouver Inter-Tribal Consortium. The Review Committee considered the proposal at its October 11-12, 2008 meeting and recommended disposition of the human remains to the Vancouver Inter-Tribal Consortium on behalf of the Clatsop-Nehalem Confederated Tribes; Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Snoqualmoo Tribe; Spokane Tribe of the Spokane Reservation, Washington; Stillaguamish Tribe of Washington; and Wanapum Band.

An April 3, 2009 letter on behalf of the Secretary of the Interior from the Designated Federal Official transmitted the authorization for the park to effect disposition of the physical remains of the culturally unidentifiable individuals to the Vancouver Inter-Tribal Consortium on behalf of the 15 Indian tribes listed above contingent on the publication of a Notice of Inventory Completion in the Federal Register. This notice fulfills that requirement.

Representatives of any other Indian tribe that believes itself to be culturally affiliated with the human remains should contact Tracy Fortmann, superintendent, Fort Vancouver National Historic Site, 612 E. Reserve St., Vancouver, WA 98661-3897, telephone (360) 816-6205, before June 25, 2009. Disposition of the human remains to the Vancouver Inter-Tribal Consortium on behalf of the Clatsop-Nehalem Confederated Tribes; Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Snoqualmoo Tribe; Spokane Tribe of the Spokane Reservation, Washington; Stillaguamish Tribe of Washington; and Wanapum Band may proceed after that date if no additional claimants come forward.

Fort Vancouver National Historic Site is responsible for notifying the Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Spokane Tribe of the Spokane Reservation, Washington; Stillaguamish Tribe of Washington; and three non-Federally recognized Indian groups - Clatsop-Nehalem Confederated Tribes, Snoqualmoo Tribe, and Wanapum Band that this notice has been published.

Dated: May 5, 2009.
Sherry Hutt,
Manager, National NAGPRA Program.

[FR Doc. E9-12282 Filed 5-22-09; 8:45 am]

BILLING CODE 4312-50-S